DEPARTMENT OF DEFENSE

Office of the Secretary

[Docket ID: DoD-2008-OS-0126]

Privacy Act of 1974; System of Records

AGENCY: Office of the Inspector General, DoD.

ACTION: Notice to amend five systems of records.

SUMMARY: The Office of the Inspector General (OIG) is amending five systems of records notices in its existing inventory of record systems subject to the Privacy Act of 1974, (5 U.S.C. 552a), as amended.

DATES: This proposed action will be effective without further notice on November 14, 2008 unless comments are received which result in a contrary determination.

ADDRESSES: Send comments to Chief, FOIA/PA Office, Inspector General, Department of Defense, 400 Army Navy Drive, Room 201, Arlington, VA 22202-4704.

FOR FURTHER INFORMATION CONTACT: Mr. Keith Mastromichalis at (703) 604-8723.

SUPPLEMENTARY INFORMATION: The Office of the Inspector General (OIG) systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: October 7, 2008.
Patricia L. Toppings,
Federal Register Liaison Officer, Department of Defense.

CIG-04

System name:

Case Control System—Investigative (May 31, 2006, 71 FR 30878).

Changes:

* * * * *

Categories of records in the system:

Delete entry and replace with “The database is composed of records of investigations to include Reports of Investigation, Information Reports and Case Summaries, which are being or have been conducted by the OIG.”

Authority for maintenance of the system:

Delete entry and replace with “Inspector General Act of 1978, (Pub. L. 452), as amended; DoD Directive 5106.1, Inspector General of the Department of Defense; and E.O. 9397 (SSN).”

* * * * *

Storage:

Delete entry and replace with “Electronic storage media.”

Retrievability:

Delete entry and replace with “By name or Social Security Number”.

Safeguards:

Delete entry and replace with “Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Electronic data system is password protected.”

Retention and disposal:

Delete entry and replace with “Electronic records are retained indefinitely for statistical purposes. Paper records are destroyed after one year”.

System manager(s) and address:

Delete entry and replace with “Director, Internal Operations Directorate, Defense Criminal Investigative Service, Office of the Inspector General for Investigations, Office of the Inspector General of the Department of Defense, 400 Army Navy Drive, Arlington, VA 22202-4704.”

* * * * *

CIG-04

System Name:

Case Control System—Investigative.

System location:

Primary location: Office of the Inspector General, Department of Defense, Office of the Deputy Inspector General for Investigations, Defense Criminal Investigative Service (DCIS), 400 Army Navy Drive, Arlington, VA 22202-4704.

Decentralized locations: Office of the Deputy Inspector General for Investigations/ Defense Criminal Investigative Service Field Offices, Resident Agencies, and Posts of Duty have temporary control over portions of the records.

Categories of individuals covered by the system:

Any person or activity which is or has been the subject of an OIG investigation.

Categories of records in the system:

Individual's name, Social Security Number (SSN), address, records of investigations to include Reports of Investigation, Information Reports and Case Summaries, which are being or have been conducted by the OIG.

Authority for maintenance of the system:

Inspector General Act of 1978, (Pub. L. 452), as amended; DoD Directive 5106.1, Inspector General of the Department of Defense; and E.O. 9397 (SSN).

Purpose(s):

The file contains open and closed case listings used to manage investigations, to produce statistical reports, and to control various aspects of the investigative process. Users are OIG employees. Used to determine the existence, location, and status of cases, control workload, and to prepare statistical reports. The records in this system are used for the following purposes: Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and or Federal employees; and to respond to other complaint investigations and congressional inquires as appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The ‘Blanket Routine Uses’ set forth at the beginning of the OIG's compilation of systems of records notices also apply to this system.

Policies and practices for storing, retrieving, accessing, retaining, and disposing of records in the system:

Storage:

Electronic storage media.

Retrievability:

By name or Social Security Number.

Safeguards:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Electronic data system is password protected.

Retention and disposal:

Electronic records are retained indefinitely for statistical purposes. Paper records are destroyed after one year.

System manager(s) and address:

Director, Internal Operations Directorate, Defense Criminal Investigative Service, Office of the Inspector General for Investigations, Office of the Inspector General of the Department of Defense, 400 Army Navy Drive, Arlington, VA 22202-4704.

Notification procedure:

Individuals seeking to determine whether information about themselves is contained in this system should address written inquiries to the Freedom of Information Act Requester Service Center/Privacy Act Office, 400 Army Navy Drive, Arlington, VA 22202-4704.

Written request should contain the individual's full name (including former names and aliases) date and place of birth, Social Security Number (SSN), current home address, telephone number and the request must be signed.

Record access procedures:

Individuals seeking access to information about themselves contained in this system should address written inquiries to the Freedom of Information Act Requester Service Center/Privacy Act Office, 400 Army Navy Drive, Arlington, VA 22202-4704. Written request should contain the individual's full name (including former names and aliases) date and place of birth, Social Security Number (SSN), current home address, telephone number and the request must be signed.

Contesting record procedures:

The OIG's rules for accessing records and for contesting contents and appealing initial agency determinations are published in 32 CFR part 312 or may be obtained from the system manager.

Record source categories:

OIG System Administrators.

Exemptions claimed for the system:

Parts of this system may be exempt pursuant to 5 U.S.C. 552a(j)(2) if the information is compiled and maintained by a component of the agency that performs as its principle function any activity pertaining to the enforcement of criminal laws.

An exemption rule for this record system has been promulgated in accordance with the requirements of 5 U.S.C. 553(b)(1), (2), and (3), (c) and (e) and published in 32 CFR part 312. For additional information contact the system manager.

CIG-06

System Name:

Investigative Files (June 5, 2006, 71 FR 32313).

Changes:

* * * * *

System manager(s) and address:

Delete entry and replace with “Director, Internal Operations Directorate, Defense Criminal Investigative Service, Office of the Inspector General for Investigations, Office of the Inspector General of the Department of Defense, 400 Army Navy Drive, Arlington, VA 22202-4704.”

* * * * *

CIG-06

System name:

Investigative Files.

Primary location: Office of the Inspector General, Department of Defense, Office of the Deputy Inspector General for Investigations, Defense Criminal Investigative Service (DCIS), 400 Army Navy Drive, Arlington, VA 22202-4704.

Decentralized locations: Defense Criminal Investigative Service Field Offices, Resident Agencies, and Posts of Duty.

Categories of individuals covered by the system:

DoD civilian personnel; members of the Armed Forces of the United States, Reserve components, and National Guard units; DoD contractors; individuals residing on, having authorized official access to, or contracting or operating any business or other functions at any DoD installation or facility; and individuals not affiliated with the Department of Defense when their activities have directly threatened the functions, property or personnel of the Department of Defense, or they have threatened any other high ranking government personnel who are provided protective service mandated by the Secretary of Defense, or they have engaged in, or are alleged to engage in criminal acts on DoD installations or directed at the Department of Defense, its personnel or functions; or individuals information regarding DoD activities falling under the purview of OIG responsibilities.

Categories of records in the system:

Reports of Investigations (ROIs), Information Reports (IRs) and criminal intelligence reports containing statements of witnesses, suspects, subject(s) and special agents; laboratory reports, polygraph records to include charts, reports, technical data, rights waivers, polygraph waivers, numerical score sheets, interview logs, test questions sheets, and all other documents relating to the polygraphs, all consensual or non consensual monitoring, documentary evidence, physical evidence, summary and administrative data pertaining to preparation and distribution of the report; basis for allegations; investigative information from Federal, State, and local investigative and intelligence agencies and departments and all correspondence relevant to the investigation, location of investigation, year and date of offense, names and personal identifiers of persons who have been subjects of electronic surveillance, suspects, subjects witnesses and victims of crimes, report number which allows access to records noted above; agencies, firms, and Defense Department organizations which were the subject(s) or victim(s) of criminal investigations; and disposition and suspense of offenders listed in criminal investigative files, agents notes, working papers, confidential source documents, subpoenas, Grand Jury documents, finger print cards, witness identification data, requests approvals for case openings and or closings, special investigative techniques requiring approval by management, and any other miscellaneous documents supporting the case files.

Authority for maintenance of the system:

Inspector General Act of 1978 (Pub. L. 95-452), as amended; DoD Directive 5106.1, Inspector General of the Department of Defense; and E.O. 9397 (SSN).

Purpose(s):

To conduct criminal investigations, crime prevention and criminal intelligence activities, to accomplish management studies involving the analysis, compilation of statistics, quality control, to ensure that completed investigations are legally sufficient and result in overall improvement in techniques, training and professionalism. Includes personnel security, internal security, criminal, and other law enforcement matters, all of which are essential to the effective operation of the Office of the Inspector General, DCIS. The records in this system are used for the following purposes: Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and or Federal employees; and to respond to other complaint investigations and congressional inquires as appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations includes statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The DoD ‘Blanket Routine Uses’ set forth at the beginning of the OIG's compilation of systems of records notices also apply to this system.

Policies and practices for storing, retrieving, accessing, retaining, and disposing of records in the system:

Storage:

Records are stored on paper in file folders and on electronic storage media.

Retrievability:

Records are retrieved by individual's name, Social Security Number (SSN), or case control number.

Safeguards:

The primary storage location and some decentralized locations are in buildings protected by guards during non-duty hours. All OIG records are stored in locked safes and are accessible only to authorized personnel who have a need-to-know in conjunction with their official duties. Computerized listings are password protected.

Retention and disposal:

Investigative Case files and Information Reports are maintained in the office of origin for two years after case closure and then transferred to the OIG DoD Headquarters for preparation and final transfer to the Washington National Records Center where they are retained for 20 years and 10 years, respectively, and ultimately destroyed.

Those records which attract great public or judicial attention or document a historical development in the OIG DoD may be deemed permanent and transferred directly to the National Archives and Records Administration.

System manager(s) and address:

Director, Internal Operations Directorate, Defense Criminal Investigative Service, Office of the Inspector General for Investigations, Office of the Inspector General of the Department of Defense, 400 Army Navy Drive, Arlington, VA 22202-4704.

Notification procedure:

Individuals seeking to determine whether information about themselves is contained in this system should address written inquiries to the Freedom of Information Act Requester Service Center/Privacy Act Office, 400 Army Navy Drive, Arlington, VA 22202-4704.

Written requests should contain the individual's full name (including former names and aliases), and Social Security Number (SSN), current home address, and telephone number, and the request must be signed.

Record access procedures:

Individuals seeking access to information about themselves contained in this system should address written inquiries to the Freedom of Information Act Requester Service Center/Privacy Act Office, 400 Army Navy Drive, Arlington, VA 22202-4704.

Written requests should contain the individual's full name (including former names and aliases), and Social Security Number (SSN), current home address, and telephone number, and the request must be signed.

Contesting record procedures:

The OIG's rules for accessing records and for contesting contents and appealing initial agency determinations are published in 32 CFR part 312 or may be obtained from the system manager.

Record source categories:

Subjects and suspects of OIG investigations. Interview of witnesses, victims, and confidential sources. All types of records and information maintained by all levels of government, private industry, and non-profit organizations reviewed during the course of the investigation or furnished to the OIG. Any other type of record deemed necessary to complete the OIG investigation.

Exemptions claimed for the system:

Parts of this system may be exempt pursuant to 5 U.S.C. 552a(j)(2) if the information is compiled and maintained by a component of the agency that performs as its principle function any activity pertaining to the enforcement of criminal laws.

An exemption rule for this record system has been promulgated in accordance with the requirements of 5 U.S.C. 553(b)(1), (2), and (3), (c) and (e) and published in 32 CFR part 312. For additional information contact the system manager.

CIG-11

System name:

Budget Information Tracking System (BITS) (June 14, 2006, 71 FR 34314).

Changes:

* * * * *

System location:

Delete entry and replace with “Office of the Comptroller, Office of Administration and Management, Office of the Inspector General of the Department of Defense, 400 Army Navy Drive, Arlington, VA 22202-4704.”

* * * * *

Purpose:

Delete entry and replace with “Information is used in determining current year execution and future budgetary requirements for the OIG, such as: tracking temporary duty travel costs, Permanent Change of Station costs, cash award or overtime costs and maintain spreadsheets by Human Resources Training/purchase cardholders.”

* * * * *

Retrievability:

Delete entry and replace with “By name and Social Security Number.”

Safeguards:

Delete entry and replace with “Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Electronic data system is password protected.”

* * * * *

System manager(s) and address:

Delete entry and replace with “Comptroller, Office of Administration and Management, Office of the Inspector General of the Department of Defense, 400 Army Navy Drive, Arlington, VA 22202-4704.”

* * * * *

CIG-11

System name:

Budget Information Tracking System (BITS).

System location:

Office of the Comptroller, Office of Administration and Management, Office of the Inspector General of the Department of Defense, 400 Army Navy Drive, Arlington, VA 22202-4704.

Categories of individuals covered by the system:

All Office of the Inspector General (OIG) employees, contractors, or other personnel sponsored by the OIG who participate in OIG Travel, Permanent Change of Station, Awards, Overtime/Compensation Time, Training, and programs with entitlement to reimbursable expenses.

Categories of records in the system:

Individual's name, Social Security Number (SSN), grade and or rank, street address, financial transaction document number, and the cost records of the personnel who have been approved for Temporary Duty; Permanent Change of Station (PCS); an employee cash award; reimbursement for miscellaneous expenses; and Overtime/Compensatory Time.

Authority for maintenance of the system:

Public Law 95-452, the Inspector General Act of 1978, as amended; 5 U.S.C. 301, Departmental Regulations; DoD 7000.14-R, DoD Financial Management Regulation; DoD Directive 5106.1, Inspector General of the Department of Defense; OIG DoD Instruction 7200.1, Budget and Fund Control; OIG DoD Instruction 7250.13, Official Representation Funds; and E.O. 9397 (SSN).

Purpose(s):

Information is used in determining current year execution and future budgetary requirements for the OIG, such as: tracking temporary duty travel costs, Permanent Change of Station costs, cash award or overtime costs and maintain spreadsheets by Human Resources Training/purchase cardholders.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OIG's compilation of systems of records notices also apply to this system.

Policies and practices for storing, retrieving, accessing, retaining, and disposing of records in the system:

Storage:

Paper records in file folders and electronic storage media.

Retrievability:

By name and Social Security Number.

Safeguards:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Electronic data system is password protected.

Retention and disposal:

Records are maintained for current fiscal year. Destroy 6 years and 3 months after the close of the fiscal year.

System manager(s) and address:

Comptroller, Office of Administration and Management, Office of the Inspector General of the Department of Defense, 400 Army Navy Drive, Arlington, VA 22202-4704.

Notification procedure:

Individuals seeking to determine whether this system of records contains information about themselves should address written inquiries to the Freedom of Information Act Requester Service Center/Privacy Act Office, 400 Army Navy Drive, Arlington, VA 22202-4704.

The request should contain the full name, address, and Social Security Number (SSN) of the individual.

Record access procedures:

Individuals seeking access to records about themselves contained in this system of records should address written inquiries to the Chief, Freedom of Information Act/Privacy Act Office, 400 Army Navy Drive, Arlington, VA 22202-4704.

The request should contain the full name, address, and Social Security Number (SSN) of the individual.

Contesting record procedures:

The OIG's rules for accessing records and for contesting contents and appealing initial agency determinations are published in 32 CFR part 312 or may be obtained from the system manager.

Record source categories:

Data maintained in the system is obtained directly from the individual on the following forms:

a. Request for Temporary Duty Travel Form, provided to the Travel Branch, Administration and Logistics Services Directorate, with information obtained from the individual traveler;

b. Request for Permanent Change of Station Form, provided by the Travel Branch, Administration and Logistics Services Directorate, with information obtained from the individual;

c. Request for Training Form, provided by the Training Officer within each segment of the Office of the Deputy Inspector General with information obtained from the individual; and

d. Request for reimbursement of miscellaneous expenses (DD Form 1164 or SF 1034) provided by respective budget point of contact within each office of the Deputy Inspector General with information obtained from the individual.

To the extent that a follow-up to resolve discrepancies is required, information is collected directly from the individual or the appropriate office within the Office of the Inspector General on Department of Defense (DD) Forms 1610 and 1614, Standard Form 182, and IG Form 1400.430-3.

Exemptions claimed for the system:

None.

CIG-15

System name:

Senior Official and Reprisal Investigation Case System (June 5, 2006, 71 FR 32307).

Changes:

* * * * *

System location:

Delete entry and replace with “Directorates for Investigations of Senior Officials, Military Reprisal Investigations, and Civilian Reprisal Investigations, Office of the Assistant Inspector General for Administrative Investigations, Office of the Inspector General of the Department of Defense, 400 Army Navy Drive, Arlington, VA 22202-4704.”

* * * * *

System manager(s) and address:

Delete entry and replace with “Office of the Assistant Inspector General for Administrative Investigations, Office of the Deputy Inspector General for Investigations, Office of the Inspector General of the Department of Defense, 400 Army Navy Drive, Arlington, VA 22202-4704.”

* * * * *

CIG-15

System name:

Senior Official and Reprisal Investigation Case System.

System location:

Directorates for Investigations of Senior Officials, Military Reprisal Investigations, and Civilian Reprisal Investigations, Office of the Assistant Inspector General for Administrative Investigations, Office of the Inspector General of the Department of Defense, 400 Army Navy Drive, Arlington, VA 22202-4704.

Categories of individuals covered in the system:

Individuals who provide initial complaints resulting in administrative investigations conducted by Office of the Deputy Inspector General for Investigations (ODIG-INV) related to violations of laws, rules, or regulations or mismanagement, gross waste of funds, abuse of authority, or a danger to the public health and safety; subjects of administrative investigations conducted by the ODIG-INV; or individuals identified as having been adversely affected by matters under investigation by the ODIG-INV.

Categories of records in the system:

Materials relating to allegations received and documentation created as a result of action by the Office of the Inspector General, including reports, records of action taken, and supporting documentation.

Authority for maintenance of the system:

Inspector General Act of 1978 (Pub. L. 95-452), as amended; and DoD Directive 5106.1 (32 CFR part 376).

Purpose(s):

To record complaints, allegations of wrongdoing, and requests for assistance; to document inquiries, research facts and circumstances, sources of information, conclusions and recommendations; to record actions taken and notifications of interested parties and agencies.

Routine uses of records maintained in the system including categories of users, and purposes of such uses:

In addition to those disclosures generally permitted under 5 U.S.C. 552a(b) of the Privacy Act, these records or information contained therein may specifically be disclosed outside the DoD as a routine use pursuant to 5 U.S.C. 552a(b)(3) as follows:

The ‘Blanket Routine Uses' set forth at the beginning of the OIG's compilation of systems of records notices also apply to this system.

Policies and practices for storing, retrieving, accessing, retaining, and disposing of records in the system:

Storage:

Paper records in file folders and electronic storage media.

Retrievability:

By individual names or case numbers.

Safeguards:

Records are maintained in locked rooms accessible only to Office of the Deputy Inspector General for Investigations personnel having official need-to-know and electronic data system is password protected.

Retention and disposal:

Destroy when 10 years old.

System manager(s) and address:

Office of the Assistant Inspector General for Administrative Investigations, Office of the Deputy Inspector General for Investigations, Office of the Inspector General of the Department of Defense, 400 Army Navy Drive, Arlington, VA 22202-4704.

Notification procedure:

Individuals seeking to determine whether information about themselves is contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.

Records access procedures:

Individuals seeking access to information about themselves contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.

Contesting record procedures:

The OIG's rules for accessing records and for contesting contents and appealing initial agency determinations are published in 32 CFR part 312 or may be obtained from the system manager.

Record source categories:

Information was obtained from sources, subjects, witnesses, all levels of government, private businesses, and nonprofit organizations.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this record system has been promulgated in accordance with the requirements of 5 U.S.C. 553(b)(1), (2), and (3), (c) and (e) and published in 32 CFR part 312. For additional information contact the system manager.

CIG-16

System Name:

DoD Hotline Program Case Files (May 31, 2006, 71 FR 30882).

Changes:

* * * * *

System location:

Delete entry and replace with “DoD Hotline Division, Office of the Assistant Inspector General for Communications and Congressional Liaison, Office of the Inspector General of the Department of Defense, 400 Army Navy Drive, Arlington, VA 22202-4704.”

* * * * *

Authority for maintenance of the system:

Delete entry and replace with “Public Law 95-452 as amended, Inspector General Act of 1978; 32 CFR Part 98, Defense Hotline Program; and DoD Directive 5106.1, Inspector General of the Department of Defense.”

* * * * *

Retrievability:

Delete entry and replace with “By Individual's name, subject matter, and Hotline case number”.

* * * * *

System manager(s) and address:

Delete entry and replace with “Director, DoD Hotline Division, Office of the Assistant Inspector General for Communications and Congressional Liaison, Office of the Inspector General of the Department of Defense, 400 Army Navy Drive, Arlington, VA 22202-4704.”

Notification procedure:

Delete entry and replace with “Individuals seeking to determine whether information about themselves is contained in this system of records should address written inquiries to the Freedom of Information Act Requester Service Center/Privacy Act Office, 400 Army Navy Drive, Arlington, VA 22202-4704.

The request should contain the individual's full name and address. Requests submitted on behalf of other persons must include their written authorization.”

Records access procedures:

Delete entry and replace with “Individuals seeking access to information about themselves contained in this system of records should address written inquiries to the Freedom of Information Act Requester Service Center/Privacy Act Office, 400 Army Navy Drive, Arlington, VA 22202-4704.

The request should contain the individual's full name and address. Requests submitted on behalf of other persons must include their written authorization.”

* * * * *

CIG-16

System Name:

DoD Hotline Program Case Files.

System location:

DoD Hotline Division, Office of the Assistant Inspector General for Communications and Congressional Liaison, Office of the Inspector General of the Department of Defense, 400 Army Navy Drive, Arlington, VA 22202-4704.

Categories of individuals covered in the system:

Individuals filing hotline complaints; individuals alleged to have been involved in criminal or administrative misconduct, including, but not limited to, fraud, waste, or mismanagement; or individuals identified as having been adversely affected by matters being investigated by the Office of the Inspector General.

Categories of records in the system:

Records resulting from the referral of, and inquiry into, hotline complaints, such as the date of the complaint; the hotline control number; the name of the complainant; the actual allegations; referral documents to DoD components requesting investigation into DoD Hotline complaints; referral documents from DoD components transmitting the DoD Hotline Completion Report, which normally contains the name of the examining official(s) assigned to the case; background information regarding the investigation itself, such as the scope of the investigation, relevant facts discovered, information received from witnesses, and specific source documents reviewed; the investigator's findings, conclusions, and recommendations; and the disposition of the case; and internal DoD Hotline forms documenting review and analysis of DoD Hotline Completion Reports received from DoD components.

Authority for maintenance of the system:

Public Law 95-452 as amended, Inspector General Act of 1978; 32 CFR Part 98, Defense Hotline Program; and DoD Directive 5106.1, Inspector General of the Department of Defense.

Purpose(s):

To record information related to official hotline investigations.

To compile statistical information to disseminate to other components within the Department of Defense engaged in the Hotline Program.

To provide prompt, responsive, and accurate information regarding the status of ongoing cases.

To provide a record of complaint disposition. Hotline complaints appearing to involve criminal wrongdoing will be referred to the Defense Criminal Investigative Service or other criminal investigative units of DoD components.

Routine uses of records maintained in the system including categories of users, and purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' set forth at the beginning of the OIG's compilation of systems of records notices also apply to this system.

Policies and practices for storing, retrieving, accessing, retaining, and disposing of records in the system:

Storage:

Paper records in file folders and electronic storage media.

Retrievability:

By Individual's name, subject matter, and Hotline case number.

Safeguards:

Access is limited to DoD Hotline staff. Paper and automated records are stored in rooms protected by cipher lock. The automated system is password protected, and regular back-ups of data are performed.

Retention and disposal:

Hotline case files not referred are destroyed after 2 years.

Electronic copies created on electronic mail and word processing systems are deleted after a record keeping copy has been produced.

Automated and paper records are retained within the Office of the Defense Hotline Division for a period of 5 years after closure. The records are then retired to the Washington National Records Center for an additional 5 years, and then destroyed.

System manager(s) and address:

Director, DoD Hotline Division, Office of the Assistant Inspector General for Communications and Congressional Liaison, Office of the Inspector General of the Department of Defense, 400 Army Navy Drive, Arlington, VA 22202-4704.

Notification procedure:

Individuals seeking to determine whether information about themselves is contained in this system of records should address written inquiries to the Freedom of Information Act Requester Service Center/Privacy Act Office, 400 Army Navy Drive, Arlington, VA 22202-4704.

The request should contain the individual's full name and address. Requests submitted on behalf of other persons must include their written authorization.

Record access procedures:

Individuals seeking access to information about themselves contained in this system of records should address written inquiries to the Freedom of Information Act Requester Service Center/Privacy Act Office, 400 Army Navy Drive, Arlington, VA 22202-4704.

The request should contain the individual's full name and address. Requests submitted on behalf of other persons must include their written authorization.

Contesting record procedures:

The OIG's rules for accessing records and for contesting contents and appealing initial agency determinations are published in 32 CFR part 312 or may be obtained from the system manager.

Record source categories:

Sources, subjects, witnesses, all levels of Government, private businesses, and nonprofit organizations.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identify of a confidential source. Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 312. For additional information contact the system manager.

[FR Doc. E8-24436 Filed 10-14-08; 8:45 am]

BILLING CODE 5001-06-P